DEPARTMENT OF TRANSPORTATION

Federal Aviation Administration

Notice of Intent To Request Renewal From the Office of Management and Budget (OMB) of Seven Current Public Collections of Information

AGENCY: Federal Aviation Administration (FAA), DOT.

ACTION: Notice.

SUMMARY: In compliance with the Paperwork Reduction Act (44 U.S.C. 3501 et seq.), the FAA invites public comment on seven currently approved public information collections which will be submitted to OMB for renewal.

DATES: Comments must be received on or before August 12, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0008, Operating Requirements: Domestic, Flag, and Supplemental Operations. Title 49 U.S.C. 44702, empowers the Secretary of Transportation to issue air carrier operating certificates and to establish minimum safety standards for the operation of the air carrier to whom such certificates are issued. Each operator seeking to obtain, or is in possession of, an air carrier operating certificate must comply with the requirements of 14 CFR part 121. The FAA will use the information it collects and reviews to insure compliance and adherence to regulations and, if necessary, to take enforcement action on violations. The current estimated annual reporting burden is 1,278,856 hours.

2. 2120-0014, Procedures for Non-Federal Navigational Facilities FAR Part 171. The non-Federal navigation facilities are aids to air navigation which are purchased, installed, operated, and maintained by an entity other than the FAA and are available for use by the flying public. FAR Part 171 describes procedures for receiving permission to install a facility and requirements to be fulfilled to keep it in service. These requirements include inspection and periodic maintenance. These tasks and any other repair work done to these facilities is recorded in on-site logs, copies of which are sent to the regional office. The current estimated annual reporting burden is 29,516 hours.

3. 2120-0535, Antidrug Program for Personnel Engaged in Specified Aviation Duties. 14 CFR Part 121, Appendix I and J, require specified aviation employers to implement and conduct FAA-approved antidrug programs. To monitor program compliance, institute program improvements, and anticipate program problem areas, the FAA receives drug test reports from the aviation industry. The current estimated annual reporting burden in 38,679 hours.

4. 2120-0597, Application for Employment and the Federal Aviation Administration. Under the authority given by Public Law 104-50, the FAA has developed and implemented its own system for evaluating and hiring new personnel. The information collected is used to help determine the qualifications of potential new FAA hires. The current estimated annual reporting burden is 75,000 hours.

5. 2120-0600, Training and Qualification Requirements for Check Airmen and Flight Instructors. Some experienced pilots who would otherwise qualify as flight instructors or check airmen but who are not medically eligible to hold the requisite medical certificates, cannot perform flight instructor or check airmen functions, even in simulators. This rule establishes separate requirements for check airmen who check only in flight simulators and flight instructors who instruct only in flight simulators. The information collected is used by the FAA to assure that these check airmen and instructors maintain the high qualification standards required to perform their safety functions. The current estimated annual reporting burden is 13 hours.

6. 2120-0604, Aviation Medical Examiner Program. The information collected is used to determine applicants' professional and personal qualification to become an Aviation Medical Examiner (AME). Physicians who respond are prospective AMEs. The current estimated annual reporting burden is 225 hours.

7. 2120-0649, Financial Responsibility Requirements for Licensed Reentry Activities. The information to be collected supports the FAA in determining the amount of required liability insurance that is needed for a reentry operator after examining the risks associated with a reentry vehicle, its operational capabilities, and its designated reentry site. The current estimated annual reporting burden is 1,566 hours.

Issued in Washington, DC, on June 6, 2002.
Judith D. Street,
Federal Aviation Administration Information Collection Clearance Officer, APF-100.

[FR Doc. 02-14754 Filed 6-11-02; 8:45 am]

BILLING CODE 4910-13-M